ENVIRONMENTAL PROTECTION AGENCY

[FRL: 7474-7]

Proposed Covenant Not To Sue Under CERCLA Section 122(h) Contained in Administrative Order on Consent, Index No. CERCLA-02-2002-2025, Shenandoah Road Groundwater Contamination Superfund Site, East Fishkill, Dutchess County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given of a proposed covenant not to sue under section 122(h) of CERCLA, 42 U.S.C. 9622(h), contained in Administrative Order on Consent, Index No. CERCLA-02-2002-2025 (“Order”), that has been issued in connection with the Shenandoah Road Groundwater Contamination Superfund Site, East Fishkill, Dutchess County, New York (“Site”). The Order was issued on September 27, 2002, by the U.S. Environmental Protection Agency (“EPA” or the “Agency”). Under the Order, International Business Machines Corporation (“IBM”) will conduct a remedial investigation and feasibility study (“RI/FS”) for the Site and reimburse EPA for the costs of overseeing the work. Pursuant to Paragraph 75 of the Order, EPA is granting IBM a covenant not to sue for $150,000 of EPA's past response costs. For thirty (30) days following the date of publication of this notice, EPA will receive written comments relating to the covenant not to sue. The Agency will consider all comments received and may modify or withdraw its consent to the covenant not to sue if comments received disclose facts or considerations that indicate that the proposed covenant not to sue is inappropriate, improper, or inadequate. The Agency's response to any comments received will be available for public inspection at EPA, Region II, 290 Broadway, New York, New York 10007-1866.

DATES: Comments must be submitted on or before April 28, 2003.

ADDRESSES: The Order containing the proposed covenant not to sue is available for public inspection at the United States Environmental Protection Agency, 290 Broadway, New York, New York 10007-1866. A copy of the Order containing the proposed covenant not to sue may also be obtained from Laura Y. McDavid, Assistant Regional Counsel, New York/Caribbean Superfund Branch, Office of Regional Counsel, 17th Floor, 290 Broadway, New York, New York 10007-1866. Requests for a copy of the Order should reference Index No. CERCLA-02-2002-2025. Any comments or requests should be addressed to Ms. McDavid and should reference the Shenandoah Road Groundwater Contamination Superfund Site, East Fishkill, Dutchess County, New York.

FOR FURTHER INFORMATION CONTACT: Laura Y. McDavid, Assistant Regional Counsel, New York/Caribbean Superfund Branch, Office of Regional Counsel, U.S. Environmental Protection Agency, 17th Floor, 290 Broadway, New York, New York 10007-1866. Telephone: 212-637-3179.

Dated: March 19, 2003.
William J. Muszynski, P.E.,
Deputy Regional Administrator, U.S. Environmental Protection Agency, Region II.

[FR Doc. 03-7507 Filed 3-27-03; 8:45 am]

BILLING CODE 6560-50-P